ENVIRONMENTAL PROTECTION AGENCY

40 CFR Part 52

[EPA-R09-OAR-2024-0250 and EPA-R09-OAR-2024-0301; FRL-12006-02-R9]

Air Plan Approval and Attainment Date Extension; 1997 Annual Fine Particulate Matter Nonattainment Area; San Joaquin Valley, California

AGENCY: Environmental Protection Agency (EPA).

ACTION: Final rule.

SUMMARY: The Environmental Protection Agency (EPA) is finalizing approval of a state implementation plan (SIP) revision submitted by the State of California to meet Clean Air Act (CAA or “Act”) requirements for the 1997 fine particulate matter (PM2.5) national ambient air quality standards (NAAQS or “standards”) in the San Joaquin Valley “Serious” nonattainment area. The EPA is also finalizing a one-year extension of the applicable attainment date from December 31, 2023, to December 31, 2024, for the 1997 annual PM2.5 San Joaquin Valley, California, nonattainment area based on our evaluation of air quality monitoring data and the extension request and supporting information submitted by the State of California.

DATES: This rule is effective on December 19, 2024.

ADDRESSES: The EPA has established dockets for this action under Docket ID No. EPA-R09-OAR-2024-0250 and EPA-R09-OAR-2024-0301. All documents in the dockets are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with a disability who needs a reasonable accommodation at no cost to you, please contact the person identified in the FOR FURTHER INFORMATION CONTACT section.

FOR FURTHER INFORMATION CONTACT: Ashley Graham, Geographic Strategies and Modeling Section (AIR-2-2), EPA Region IX, 75 Hawthorne Street, San Francisco, CA 94105; phone: (415) 972-3877; email: graham.ashleyr@epa.gov.

SUPPLEMENTARY INFORMATION: Throughout this document, “we,” “us,” and “our” refer to the EPA.

Table of Contents

I. Summary of the Proposed Actions

II. Public Comments and EPA Responses

A. Comments From CCAC

B. Comments From Santa Rosa Rancheria Tachi Yokut Tribe

III. Environmental Justice Considerations

IV. Final Action

V. Statutory and Executive Order Reviews

I. Summary of the Proposed Actions

On July 8, 2024, the EPA proposed two actions related to the CAA requirements for the 1997 annual PM2.5 NAAQS in the San Joaquin Valley Serious nonattainment area.

In the first action, under CAA section 110(k)(3), the EPA proposed to approve through parallel processing the “Amendments to the 15 µg/m³ SIP Revision and Agricultural Equipment Incentive Measure for the 1997 PM2.5 Standard” (“15 µg/m³ Plan Amendments”) as a revision to the California SIP.¹ The 15 µg/m³ Plan Amendments seek to amend a SIP-approved measure, the “Accelerated Turnover of Agricultural Equipment Incentive Projects” (“Valley Incentive Measure”), to include a quantification of the emissions reductions for the year 2023 from existing agricultural equipment projects from the California Air Resources Board's (CARB's) Carl Moyer Memorial Air Quality Standards Attainment Program (“Carl Moyer”) and CARB's Funding Agricultural Replacement Measures for Emission Reductions (FARMER) program and seek EPA approval of those emission reductions for SIP credit. The 15 µg/m³ Plan Amendments also seek to revise the aggregate tonnage commitment in the attainment plan for the 1997 annual PM2.5 NAAQS (i.e., the “Attainment Plan Revision for the 1997 Annual PM2.5 Standard” (“15 µg/m³ SIP Revision”)) by replacing it with a commitment to achieve the same reductions from the Valley Incentive Measure. As part of the EPA's proposal to approve the 15 µg/m³ Plan Amendments, we proposed to approve the State's demonstration that the Valley Incentive Measure has achieved emissions reductions of 5.0 tons per day (tpd) of nitrogen oxides (NOX) and 0.27 tpd of direct PM2.5 in the year 2023, and proposed to credit the reductions as a substitute measure to meet the aggregate tonnage commitment in the 15 µg/m³ SIP Revision.²

¹ 89 FR 55896 (July 8, 2024).

² Id.

In the second action, based in part on our proposal to approve the 15 µg/m³ Plan Amendments, the EPA proposed to grant California's request for a one-year extension of the applicable attainment date from December 31, 2023, to December 31, 2024, for the 1997 annual PM2.5 San Joaquin Valley, California, nonattainment area.³ The proposed action to extend the applicable attainment date for this nonattainment area was based on the EPA's evaluation of air quality monitoring data and extension request submitted by the State of California, and our determination that the State has satisfied the two statutory criteria for a one-year extension under CAA section 172(a)(2)(C): The State has complied with all requirements and commitments pertaining to the area in the applicable implementation plan, and in accordance with guidance published by the Administrator, no more than the minimal number of exceedances of the relevant national ambient air quality standard has occurred in the area in the year preceding the Extension Year.

³ 89 FR 55901 (July 8, 2024).

For details regarding the EPA's reasons for proposing to approve the 15 µg/m³ Plan Amendments and to grant the one-year extension, please see the July 8, 2024 proposal notices.⁴

⁴ 89 FR 55896 and 89 FR 55901.

On August 22, 2024, California submitted the final version of the 15 µg/m³ Plan Amendments to the EPA as a revision to the California SIP.⁵ We have reviewed this submittal and find that it fulfills the SIP completeness criteria of 40 CFR part 51, Appendix V. The SIP submission also includes evidence that adequate public notice was given and that an opportunity for a public hearing was provided consistent with the EPA's implementing regulations in 40 CFR 51.102. Specifically, CARB provided public notice and opportunity for public comment prior to its July 25, 2024 public hearing on and adoption of the 15 µg/m³ Plan Amendments.⁶ The SIP submission includes proof of publication notices for the public hearing and includes copies of the written and oral comments received during the State's public review processes and CARB's responses thereto.⁷ Therefore, we find that the 15 µg/m³ Plan Amendments meet the procedural requirements for public notice and hearing in CAA sections 110(a) and 110(l) and 40 CFR 51.102.

⁵ Letter dated August 22, 2024, from Steven S. Cliff, Executive Officer, CARB, to Martha Guzman, Regional Administrator, EPA Region 9, with enclosures (submitted electronically August 22, 2024 and supplement submitted electronically October 7, 2024).

⁶ CARB, “Notice of Public Meeting to Consider the San Joaquin Valley 2024 State Implementation Plan for the 2012 12 µg/m³ Annual PM2.5 Standard, to Consider Amendments to the Agricultural Equipment Incentive Measure and the 1997 15 µg/m³ State Implementation Plan Revision, and to Hear an Implementation Update on the 2018 PM2.5 Plan,” dated June 14, 2024.

⁷ J&K Court Reporting, LLC, “Meeting, State of California, Air Resources Board, Zoom Platform,” July 25, 2024 (transcript of CARB's public hearing), and CARB, “Board Meeting Comments Log and Comments posted that were presented during the Hearing” (written comments received).

II. Public Comments and EPA Responses

The public comment period for the proposed rulemakings opened on July 8, 2024, the date of publication of both proposals in the Federal Register, and closed on August 7, 2024. During this period, the EPA received five comment submissions in response to the proposal to approve the 15 µg/m³ Plan Amendments, including two comment submissions from anonymous commenters,⁸ one comment submission from a private citizen,⁹ one comment from an environmental consultant,¹⁰ and one comment letter from CARB.¹¹ Three of the five comment submissions generally supported our proposal to approve the 15 µg/m³ Plan Amendments ¹² and the remaining two comments were not germane to our action.¹³ We did not receive any comments that opposed EPA's proposed approval of the 15 µg/m³ Plan Amendments. All five comments are included in the docket for the proposed action.¹⁴

⁸ Anonymous comment received July 20, 2024, to Docket ID No. EPA-R09-OAR-2024-0301; and anonymous comment received July 27, 2024, to Docket No. EPA-R09-OAR-2024-0301.

⁹ Comment letter dated and received August 7, 2024, from Dennis Tristao to Docket No. EPA-R09-OAR-2024-0301.

¹⁰ Email dated June 28, 2024, including an attachment, from Shawn Dolan to Lily Lee, EPA Region IX.

¹¹ Comment letter dated and received August 5, 2024, from Steven S. Cliff, Executive Officer, CARB, to Martha Guzman, Regional Administrator, EPA Region 9.

¹² The three sets of comments supporting our proposal include those from an anonymous commenter received July 27, 2024, those from CARB, and those from the private citizen.

¹³ The two sets of comments that are not germane to our proposal include those from an anonymous commenter received July 20, 2024, and those from the environmental consultant.

¹⁴ https://www.regulations.gov/docket/EPA-R09-OAR-2024-0301/comments.

The EPA received nine comment submissions in response to the proposal to grant the one-year extension of the attainment date for the 1997 annual PM2.5 NAAQS, including three comment submissions from private citizens; ¹⁵ a comment submission from a university professor; ¹⁶ a comment submission from the Santa Rosa Rancheria Tachi Yokut Tribe (“Santa Rosa Rancheria”); ¹⁷ a comment submission from the Citizens Advisory Committee, a group representing industry, environmental, and city interests in the San Joaquin Valley; ¹⁸ a comment submission from CARB; ¹⁹ a comment submission from the San Joaquin Valley Unified Air Pollution Control District (SJVUAPCD or “District”); ²⁰ and a comment submission from a coalition of eight environmental and community organizations (collectively referred to herein as “Central California Asthma Collaborative” or CCAC).²¹ All nine comment submissions are included in the docket for the proposed action.²² Of the nine comment submissions provided in response to the proposal to grant the one-year extension of the attainment date for the 1997 annual PM2.5 NAAQS, four of the comments generally support the EPA's proposal to grant the extension ²³ and three of the comments were not germane to our action.24 25 The supportive and non-germane comments do not require a response. We respond to the remaining two sets of comments received on our July 8, 2024 proposed rule herein.

¹⁵ Email dated June 28, 2024, including an attachment, from Shawn Dolan to Lily Lee, EPA Region IX; comment letter dated and received August 7, 2024, from Dennis Tristao to Docket No. EPA-R09-OAR-2024-0250; comment received July 27, 2024, with attachment, from Emily Brandt to Docket No. EPA-R09-OAR-2024-0250.

¹⁶ Comment received July 26, 2024, from Ian Faloona, UC Davis Air Quality Research Center/Land, Air, & Water Resources Department, titled “Comments on `Review of San Joaquin Valley 2024 Plan for the 12 µg/m³ Annual PM2.5 Standard' by CARB, June 14, 2024.”

¹⁷ Comment letter dated July 23, 2024, and received July 29, 2024, from Leo Sisco, Tribal Chairman, Santa Rosa Rancheria Tachi Yokut Tribe, to Ashley Graham, EPA Region IX.

¹⁸ Comment letter dated and received August 7, 2024, from Ben Cantu, Chair, Citizens Advisory Committee, to EPA Docket No. EPA-R09-OAR-2024-0250, Subject: “RE: Docket No. EPA-R09-OAR-2024-0250, Attainment Date Extension for the San Joaquin Valley, California 1997 Annual PM2.5 Fine Particulate Matter Nonattainment Area.”

¹⁹ Comment letter dated and received August 5, 2024, from Steven S. Cliff, Executive Officer, CARB, to Martha Guzman, Regional Administrator, EPA Region 9.

²⁰ Comment letter dated and received August 6, 2024, from Sheraz Gill, Deputy APCO, SJVUAPCD, to Docket No. EPA-R09-OAR-2024-0250, Subject: “RE: Docket No. EPA-R09-OAR-2024-0250, Attainment Date Extension for the San Joaquin Valley, California 1997 Annual PM2.5 Fine Particulate Matter Nonattainment Area.”

²¹ Comment letter dated and received August 7, 2024, including an attachment, to Ashley Graham, EPA Region 9. The eight environmental and community organizations, in order of appearance in the letter, are the Central California Asthma Collaborative, the Central California Environmental Justice Network, the Central Valley Air Quality Coalition, Earthjustice, the LEAP Institute, the Leadership Counsel for Justice & Accountability, Little Manila Rising, and Sierra Club Tehipite Chapter.

²² https://www.regulations.gov/docket/EPA-R09-OAR-2024-0250/comments.

²³ The four sets of comments supporting our proposal include those from the private citizen commenter received August 7, 2024, those from the Citizens Advisory Committee, those from CARB, and those from SJVUAPCD.

²⁴ The three sets of comments that are not germane to our action include those from the private citizen commenter received on June 28, 2024, those received from a private citizen commenter on July 27, 2024, and those from the university professor.

²⁵ One of the comments titled “Comments on `Review of San Joaquin Valley 2024 Plan for the 12 µg/m³ Annual PM2.5 Standard' by CARB, June 14, 2024” concerns PM2.5 concentrations in San Joaquin Valley; however, the title of the comment and the analysis therein indicates that it is directed at the State's attainment plan for the 2012 annual PM2.5 NAAQS. The comment presents evidence that purports to show that the State's attainment modeling for the 2012 annual PM2.5 NAAQS is flawed; however such modeling is not relevant to this action that concerns whether the State has met the requirements for a one-year extension of the attainment date for the 1997 annual PM2.5 NAAQS. Thus, the comment is not germane to this action and does not necessitate any further response at this time. The EPA will review the State's attainment plan for the 2012 annual PM2.5 NAAQS for compliance with the requirements of the CAA and the EPA's regulations, and will determine, following notice-and-comment rulemaking, whether the submission satisfies all applicable CAA requirements. We encourage the commenter to resubmit these comments as appropriate during such a future rulemaking.

A. Comments From CCAC

Comment 1: CCAC comments that the Valley has a history of poor air quality and of failing to attain the various NAAQS by their respective deadlines. Citing PM2.5 design values for 2018-2020, 2019-2021, and 2020-2022 of 17.6 µg/m³, 17.8 µg/m³, and 18.8 µg/m³, CCAC claims that PM2.5 concentrations have not improved and remain well above the 15 µg/m³ level of the 1997 annual PM2.5 NAAQS. CCAC also states that “EPA [has] correctly recognized the environmental injustice San Joaquin Valley residents endure” and summarizes findings from the EPA's prior environmental justice (EJ) analyses for the area.

Response 1: The EPA acknowledges that there are communities with EJ concerns in the San Joaquin Valley and does not dispute the challenges associated with attaining the 1997 annual PM2.5 NAAQS in this area. We also acknowledge that the Demographic Index analysis the EPA discussed in the proposal to grant the extension of the attainment date indicates that the indices that reflect the area's percent minority and percent low-income populations are above the national averages for those indices.²⁶ Nevertheless, the CAA provides states the opportunity to request an extension of the applicable attainment date for a nonattainment area if they meet certain statutory criteria, including that the area met the air quality standard in question in the year leading up to the applicable attainment date.²⁷

²⁶ 89 FR 55901, 55909.

²⁷ CAA section 172(a)(2)(C).

CCAC also expressed concern that PM2.5 concentrations in the Valley have not improved in recent years, and that this pattern should weigh against the extension of the attainment date. The EPA must assess whether to grant the attainment date extension in light of the statutory criteria. We note that CCAC relies on design values ²⁸ to evaluate the pace of improvement in the area. However, design values, which reflect the annual average over a three-year period, are not the metric that EPA uses to determine whether a state qualifies for a one-year attainment date extension. Rather, pursuant to section 172(a)(2)(C) of the Act, the EPA looks to the monitor data in the year leading up to the attainment date (i.e., in this case, calendar year 2023) to assess an area's recent progress. As discussed in the proposal to grant the one-year extension of the attainment date, the EPA reviewed 2023 annual mean concentrations at each of the regulatory monitoring sites in the San Joaquin Valley and determined that such data indicate that PM2.5 concentrations were below the 15.0 µg/m³ level of the 1997 annual PM2.5 NAAQS.²⁹

²⁸ For information about how the EPA calculates design values, see 40 CFR 50.7 and 40 CFR part 50, Appendix N, section 4.1(b).

²⁹ 89 FR 55901, 55909.

Moreover, 2023 annual mean concentrations were lower than annual mean concentrations in 2021 and 2022, indicating an improvement in air quality conditions in 2023 relative to previous years.³⁰ This is true even without considering potential impacts from any exceptional events during that timeframe.³¹ ³²

³⁰ EPA AQS Design Value Report, AMP480, accessed May 17, 2024 (User ID: STSAI, Report Request ID: 2193813).

³¹ Exceptional Events are unusual or naturally occurring events that can affect air quality but are not reasonably controllable using techniques that tribal, state or local air agencies may implement in order to attain and maintain the NAAQS. Exceptional events may include wildfires, high wind dust events, prescribed fires, stratospheric ozone intrusions, and volcanic and seismic activities.

³² In the May 14, 2024, letter submitting documentation to support the State's request for an attainment date extension, the District noted that they and CARB “are evaluating potential documentation to remove exceptional events (including wildfire impacts) from the 2021-2023 period, as allowed under the CAA and EPA policies.” Letter dated May 14, 2024, from Samir Sheikh, Executive Director/APCO, SJVUAPCD, to Steven S. Cliff, Executive Officer, CARB, Subject: “RE: Attainment Date Extension for the 1997 Annual PM2.5 Standard for the San Joaquin Valley Nonattainment Area.”

The EPA notes that while this final action extends the attainment date for the San Joaquin Valley for the 1997 annual PM2.5 NAAQS to December 31, 2024, the area will remain classified as Serious nonattainment for those NAAQS and is not relieved of any planning obligations under the CAA. Following the December 31, 2024 attainment date, the State and the EPA will assess whether the area has attained the 1997 annual PM2.5 NAAQS. If the area has met the NAAQS, the EPA will make a determination that the area attained by the attainment date. If the area has not met the NAAQS, the State may request a second one-year extension if the area meets the CAA requirements for such an extension. If the State does not qualify for, or the EPA denies a request for, a second one-year extension under CAA section 172, then the EPA will issue a finding of failure to attain and the State will become subject to additional CAA requirements to achieve attainment of the 1997 annual PM2.5 NAAQS in the San Joaquin Valley area.

Comment 2.A: CCAC asserts that the EPA does not have authority to grant a one-year extension of the attainment date for the San Joaquin Valley for the 1997 annual PM2.5 NAAQS under CAA section 172(a)(2)(C). Specifically, CCAC notes that subpart 4 of Part D of Title I of the Act provides for attainment date extensions for PM2.5 nonattainment areas under specific circumstances under section 188, and thus section 188 controls the question of whether the EPA can grant an attainment date extension for a Serious PM2.5 nonattainment area that fails to attain by the applicable attainment date. CCAC asserts that attainment date extensions for Serious nonattainment areas are addressed by CAA section 188(e), that California did not request such an extension, and that therefore such extension is not available at this time to the San Joaquin Valley for the 1997 annual PM2.5 NAAQS.

Response 2.A: The EPA disagrees with the commenter that the attainment date extension provisions under CAA section 188 control the present action.

As CCAC accurately explains, the EPA reclassified the San Joaquin Valley as Serious nonattainment for the 1997 annual PM2.5 NAAQS effective May 7, 2015.³³ The following year, the EPA found that the San Joaquin Valley failed to attain by the applicable Serious attainment date and that sections 179(d) and 189(d) of the CAA governed all subsequent plan requirements and attainment deadlines.³⁴

³³ 80 FR 18528 (April 7, 2015).

³⁴ 81 FR 84481 (November 23, 2016).

Crucially, following a finding of failure to attain for a Serious PM2.5 nonattainment area, CAA section 189(d) does not provide for a specific attainment date, and it instead requires:

[T]he State in which such area is located shall, after notice and opportunity for public comment, submit within 12 months after the applicable attainment date, plan revisions which provide for attainment of the [PM2.5] air quality standard and, from the date of such submission until attainment for an annual reduction in [PM2.5] or [PM2.5] precursor emissions within the area of not less than 5 percent of the amount of such emissions as reported in the most recent inventory prepared for such area.³⁵

³⁵ CAA section 189(d).

With respect to the new applicable attainment date for an area governed by CAA section 189(d), the EPA explained in the PM2.5 SIP Requirements Rule ³⁶ that:

³⁶ 81 FR 58010 (August 24, 2016).

[T]he final rule includes the overarching requirement for a Serious area that failed to attain by the previous attainment date to establish a new date for attaining the standard as expeditiously as practicable. However, neither CAA section 189(d) nor other sections in subpart 4 explicitly establish or provide the authority to establish a new attainment date for the area. Therefore, once an area is beyond the attainment dates that Congress specified in subpart 4 for the PM10 NAAQS, the EPA must look to other provisions of part D of the CAA to provide authority for a new attainment date. Sections 179(d)(3) and 172(a)(2) of the CAA provide generally applicable attainment dates that fill the gap in the statute left for areas subject to the requirements of CAA section 189(d). Thus, for a PM2.5 nonattainment area subject to CAA section 189(d) requirements, the EPA must establish a new attainment date according to the provisions of CAA section 179(d)(3) and 172(a)(2). The EPA has followed this same approach in the past for PM10 nonattainment areas governed by subpart 4 nonattainment requirements.³⁷

³⁷ Id. at 58106.

Thus, subpart 4 controls the requirements for an attainment plan under CAA section 189(d); however, after a Serious PM2.5 nonattainment area fails to attain by the attainment date, the applicable attainment date for a Serious PM2.5 nonattainment area subject to the requirements of CAA section 189(d) is controlled by the generally applicable provisions in subpart 1 of part D, CAA section 172.

Contrary to the commenter's assertion, section 172 explicitly provides for the extension that the EPA is finalizing as part of this action. The commenter cites CAA section 172(a)(2)(D), which states, “[t]his paragraph shall not apply with respect to nonattainment areas for which attainment dates are specifically provided under other provisions of this part.” But as explained above, the attainment date for an attainment plan required under CAA section 189(d) is not specifically provided under the provisions in subpart 4, which is why the EPA relied on section 172 in setting the December 31, 2023 attainment date for the San Joaquin Valley.³⁸

³⁸ 81 FR 84481, 84482.

Because CAA section 172 controls for purposes of setting an attainment date for a plan required under CAA section 189(d), it is logical and reasonable that the generally applicable provisions in section 172 would control an extension of that attainment date in the absence of any specific authority in subpart 4 for such extensions.

Comment 2.B: CCAC claims that the EPA evaluates the State's request for an attainment date extension pursuant to EPA guidance on the implementation of CAA section 188(d), which concerns attainment date extensions for Moderate PM2.5 nonattainment areas, and asserts that the EPA does not have authority to apply such provisions to a Serious PM2.5 nonattainment area.

Response 2.B: The EPA is not granting the extension pursuant to section 188(d) of the Act. Rather, because section 172(a)(2)(C) does not have PM-specific provisions and because the EPA has not issued guidance on how to implement the provisions of section 172(a)(2)(C) relevant to this particular question of the criteria for an extension of the attainment date for an PM2.5 nonattainment area subject to section 189(d), the EPA looked to guidance on the extension provisions for particulate matter nonattainment areas under CAA section 188(d) in the PM2.5 SIP Requirements Rule, given that “section 188(d) is nearly identical to CAA section 172(a)(2)(C).” ³⁹ While we did not assert that 188(d) controls in this situation, we did “consider[ ] the guidance pertaining to the one-year extension requirements under CAA section 188(d) to persuasively inform the requirements for a one-year extension for a particulate matter nonattainment area under CAA section 172(a)(2)(C).” ⁴⁰

³⁹ 89 FR 55901, 55904.

⁴⁰ Id.

Comment 2.C: CCAC further claims that “[t]he D.C. Circuit has rejected EPA's attempt to implement the PM2.5 standard under Subpart 1.”

Response 2.C: The EPA disagrees with the commenter that reliance on the generally applicable provisions in CAA section 172 to fill a gap in subpart 4 indicates that the EPA is improperly implementing a PM2.5 NAAQS under subpart 1. To the contrary, the EPA implements the PM2.5 NAAQS in accordance with the relevant provisions of both subpart 1 and subpart 4, and subpart 1 provisions continue to apply unless specifically overridden or revised by subpart 4. As we stated in our proposal, the EPA does not dispute that section 189(d) is the controlling provision for Serious areas that, like the San Joaquin Valley, fail to attain a PM2.5 NAAQS by the applicable attainment date.⁴¹ Instead, the EPA is implementing the PM2.5 standard under subpart 4 and subpart 1, in keeping with EPA's longstanding interpretation that the statutory provisions of CAA sections 172(c)(2) and 179(d)(3) govern the attainment date for new plans required under CAA section 189(d) for areas that previously failed to attain by the Serious area attainment date.⁴²

⁴¹ “Following a January 4, 2013 decision of the U.S. Court of Appeals for the D.C. Circuit . . . the EPA acknowledged that states must meet both subpart 1 and subpart 4 requirements in nonattainment plan SIP submissions for the 1997 24-hour and annual PM2.5 NAAQS.” Id. at 55903.

⁴² See, e.g., 72 FR 31183 (June 6, 2007) (finding that the Phoenix PM10 Serious nonattainment area failed to attain the standard by the December 31, 2006 attainment deadline and implementing the new attainment date for an attainment plan under CAA section 189(d) pursuant to sections 172 and 179).

Comment 2.D: CCAC asserts that the PM2.5 SIP Requirements Rule and the EPA's implementing regulations under 40 CFR 51.1005(c) prohibit California from requesting an extension of the December 31, 2023 applicable attainment deadline, and thus EPA approval of this one-year extension request would violate the EPA's own implementing regulations and is arbitrary and capricious.

Response 2.D: The EPA disagrees that 40 CFR 51.1005(c) prohibits the proposed attainment date extension. The EPA's regulations under 40 CFR 51.1005 concern extensions of the applicable attainment date for Moderate and Serious PM2.5 nonattainment areas. Applicable attainment dates for PM2.5 nonattainment areas are initially set under 40 CFR 51.1004, and 40 CFR 51.1004(a)(1) and (a)(2) follow the mandates in CAA sections 188(c)(1) and (c)(2), the CAA sections governing the setting of Moderate and Serious attainment dates, respectively. Likewise, 40 CFR 51.1005(a) and (b) follow the requirements of CAA sections 188(d) and (e), respectively, as the primary sections governing extensions of the applicable attainment date for Moderate and Serious PM2.5 nonattainment areas.

In contrast, the authority for the requirements in 40 CFR 51.1004(a)(3) governing nonattainment areas subject to CAA section 189(d) for failure to attain by the applicable Serious area attainment date comes from CAA section 172(a)(2)(C), not section 188. As explained in Response 2.A, CAA section 172 controls for purposes of setting an attainment date for a plan required under CAA section 189(d) because the provisions of subpart 4, including section 188(c), do not specifically provide authority for establishing attainment dates for 189(d) attainment plans. Because a state required to adopt and submit a 189(d) plan is subject to the attainment date requirements of CAA section 172(a)(2),⁴³ 40 CFR 51.1005(c) prohibits a state subject to section 189(d) from applying for an extension of the applicable attainment date in excess of that which is permitted for an attainment plan under section 189(d). For example, a Serious PM2.5 nonattainment area subject to section 189(d) may not apply for an extension of the applicable attainment date under section 188(e). Thus, the EPA believes the proposed attainment date extension, which was made in accordance with CAA sections 189(d) and 172, is consistent with the relevant CAA provisions and the EPA's implementing regulations.

⁴³ I.e., the nonattainment area must attain the relevant standard as expeditiously as practicable, but no later than 5 years from date of designation, with the possibility of setting the date 10 years from the date of designation under certain circumstances, and with the possibility of additional extensions of two one-year periods under CAA section 172(a)(2)(C).

Comment 3: CCAC comments that “[i]nstead of proposing to approve an illegal and unauthorized one-year extension, EPA should have made an attainment finding.” CCAC asserts that the EPA has a duty to make an attainment finding within six months of the attainment date, citing CAA sections 179(c)(1) and 188(b)(2) and that the EPA instead proposes to extend the attainment date without authority to do so.

Response 3: As explained in Responses 1 and 2, we believe a one-year extension is appropriate in this situation and authorized by the CAA if a state meets the statutory preconditions. In our proposal, the EPA proposed to determine that the State has satisfied the criteria for a one-year extension under CAA section 172 for the 1997 annual PM2.5 NAAQS in the San Joaquin Valley area, and if finalized the EPA would no longer be required under CAA section 179(c) to make a finding as to whether the area attained by the December 31, 2023 attainment date. The EPA notes that it will again have an obligation under CAA section 179 to make a determination as to whether the San Joaquin Valley attained the 1997 annual PM2.5 NAAQS following the extended December 31, 2024 attainment date. If the air quality data indicate that the San Joaquin Valley nonattainment area did not attain by the December 31, 2024 attainment date, and if the State does not qualify for, or the EPA denies a request for, a second one-year extension under CAA section 172, then the EPA will issue a finding of failure to attain at such time in accordance with CAA section 179(c).

B. Comments From Santa Rosa Rancheria Tachi Yokut Tribe

Comment 4: Santa Rosa Rancheria notes that the San Joaquin Valley has not attained the standard in nearly three decades and opposes an extension due to the commenter's concerns that the SIP is not proving effective in bringing the area into attainment.

Response 4: As discussed in Response 1, the EPA is evaluating the requested extension of the attainment date in light of the relevant statutory criteria. With respect to the air quality criterion of CAA section 172(a)(2)(C)(ii), the EPA has determined that the 2023 annual mean PM2.5 concentration data from each of the regulatory monitoring sites in the San Joaquin Valley indicate that PM2.5 concentrations were below the 15.0 µg/m³ level of the 1997 annual PM2.5 NAAQS, reflecting an improvement in air quality relative to prior years. Based in part on our review of these data, we have determined that the State has met the requirements under CAA section 172(a)(2)(C) for a one-year extension of the attainment date. The EPA will continue to monitor the area's progress towards attainment of the 1997 annual PM2.5 NAAQS and will make a finding as to whether the area attained the NAAQS following the applicable extended attainment date.

Comment 5: Santa Rosa Rancheria expresses concern that elevated PM2.5 levels are correlated with premature mortality rates, aggravated respiratory and cardiovascular disease, changes in lung function, and increased respiratory and cardiovascular symptoms.

Response 5: The EPA agrees that epidemiological studies have shown statistically significant correlations between elevated PM2.5 levels and adverse health outcomes, including premature mortality. While this action to approve a SIP revision and grant a one-year extension of the attainment date is not expected to reduce PM2.5 levels in the San Joaquin Valley, the EPA notes that the area is also designated nonattainment for the more stringent 2012 annual PM2.5 NAAQS and is subject to additional requirements to meet those NAAQS. As a result, the State will be continuing its efforts to adopt and implement additional control measures that will continue to improve ambient PM2.5 levels in the San Joaquin Valley. On August 22, 2024, California submitted a revised attainment plan for the 2012 annual PM2.5 NAAQS, which includes, among other things, the State's control strategy to achieve reductions in direct PM2.5 and PM2.5 precursors to bring the area into attainment of those NAAQS.⁴⁴ While the EPA has not yet taken action on the revised plan for the 2012 annual PM2.5 NAAQS, we expect that implementation of the plan will yield additional reductions in PM2.5 concentrations in the San Joaquin Valley.

⁴⁴ Letter dated August 22, 2024, from Steven S. Cliff, Executive Officer, CARB, to Martha Guzman, Regional Administrator, EPA Region 9, with enclosures (submitted electronically August 22, 2024, and supplement submitted electronically October 7, 2024).

Comment 6: The Santa Rosa Rancheria notes that it monitors its own air quality, and based on the data it has collected, Santa Rosa Rancheria challenges the representativeness of the data relied upon by the State and the EPA. Santa Rosa Rancheria states that “[a]ccording to the Tribe's Air Quality Monitoring Program, from multiple locations around the Rancheria, as seen in the attachment, the PM2.5 averages well above 25 µg/m³. This data is reported on the AQS database. Exposure levels over 12.0 µg/m³ are considered unsafe. The Tribe's data shows the level consistently double that level.”

Response 6: As discussed in our proposal, the EPA relies on complete, quality-assured data gathered at established State and Local Air Monitoring Stations in a nonattainment area and entered into the EPA Air Quality System (AQS) database to determine if an area meets the requirement under CAA section 172(a)(2)(C) that the area had clean data for the relevant standard in the calendar year preceding the applicable attainment date.⁴⁵ In evaluating Santa Rosa Rancheria's comments, the EPA has reviewed data collected by the Tribe that is available in AQS. These data indicate that Santa Rosa Rancheria reports data from one monitoring site (AQS ID: 06-031-0500) that measures ozone, PM10, and several meteorological parameters.⁴⁶ PM2.5 data from this site are not available in AQS.⁴⁷

⁴⁵ 89 FR 55901, 55907.

⁴⁶ EPA AQS Design Value Report, AMP435, accessed August 20, 2024 (User ID: XLEBARRY, Report Request ID: 2217065).

⁴⁷ Id.

Santa Rosa Rancheria's comment letter notes an attachment that appeared to be inadvertently omitted from the comment submission. The EPA followed up with Santa Rosa Rancheria regarding the data referenced in its letter, and in response, Santa Rosa Rancheria provided data files to the EPA that include PM2.5 data collected by monitors on tribal land in 2021 and 2022.⁴⁸ We appreciate the Tribe sharing PM2.5 data from its monitoring network with the EPA. However, because these data are not complete, quality-assured data collected at regulatory monitoring sites that meet EPA requirements ⁴⁹ and report to the EPA's AQS database, these data are not eligible for comparison to the 1997 annual PM2.5 NAAQS. Furthermore, these data collected in 2021-2022 were collected outside the timeframe relevant for the attainment date extension (i.e., 2023). While not directly relevant to this particular action, the EPA recognizes the importance of these supplemental data and commends the Tribe for its collection and use of these data to help identify sources and inform real-time decision-making to minimize PM2.5 exposures in the community.

⁴⁸ Email dated September 4, 2024, from George Bernard, Environmental Director, Santa Rosa Rancheria Tachi Yokut Tribe, to Lily Lee, Assistant Director, Air & Radiation Division, EPA Region IX, with 84 attachments.

⁴⁹ Regulatory monitoring requires adherence to 40 CFR parts 50, 53, and 58 and the related appendices and the use of designated federal reference or federal equivalent methods.

Comment 7: The Tribe asserts that research has shown that there is a strong correlation between farming and animal husbandry and elevated levels of ambient PM2.5. The Tribe states that a majority of the land in the San Joaquin Valley is used for agriculture and that because the Tribe is surrounded by agriculture, the air quality on Tribal land is more representative of the nonattainment area than data collected in more urban areas.

Response 7: As discussed in Response 6, the PM2.5 monitoring data collected by Santa Rosa Rancheria does not meet the EPA's regulatory requirements for comparison with the 1997 annual PM2.5 NAAQS and were collected outside the timeframe relevant for this action. Therefore, these data are not directly relevant to the EPA's evaluation of whether the State has met the requirements for a one-year extension of the attainment date for the 1997 annual PM2.5 NAAQS.

Regarding the correlation between farming and animal husbandry and elevated levels of PM2.5, we note that CARB and the District are engaged in several research efforts to better understand the emissions from these source categories. For example, in spring of 2024, CARB convened a subject matter expert review panel to evaluate existing data and science on NOX and ammonia emissions from soils in California.⁵⁰ CARB has also been engaged in compiling California-specific dairy activity data and related emissions trends.⁵¹ While not directly relevant to this action, we anticipate that such research studies will help inform continued efforts to reduce PM2.5 exposures from agricultural activities for residents in the San Joaquin Valley.

⁵⁰ For more information, see https://ww2.arb.ca.gov/sites/default/files/classic/eiareasource/1.%2023RD017%20Public%20Kickoff%20CARB%20Intro.pdf.

⁵¹ For more information, see https://ww2.arb.ca.gov/sites/default/files/2024-08/CARB_Dairy_Sector_Workshop_Staff_Presentation_08-22-2024.pdf.

III. Environmental Justice Considerations

As described in detail in our proposals, the EPA reviewed environmental and demographic data for the San Joaquin Valley using the EPA's EJ screening and mapping tool (“EJSCREEN”) ⁵² ⁵³ and compared the data to the corresponding data for the United States as a whole. The results of the analysis are provided for informational and transparency purposes and are not a basis for the EPA's action.

⁵² EJSCREEN provides a nationally consistent dataset and approach for combining environmental and demographic indicators. EJSCREEN is available at https://www.epa.gov/ejscreen/what-ejscreen. The EPA used EJSCREEN to obtain environmental and demographic indicators representing each of the eight counties in the San Joaquin Valley.

⁵³ EPA Region IX, “EJSCREEN Analysis for the Eight Counties of the San Joaquin Valley Nonattainment Area,” August 2022.

IV. Final Action

For the reasons discussed in our proposed rules and herein, the EPA is finalizing our approval of the 15 µg/m³ Plan Amendments as a revision to the California SIP. In doing so, we are approving the State's amendment to the Valley Incentive Measure for the purposes of emissions reductions in 2023 and the State's revision to the aggregate tonnage commitment in the 15 µg/m³ SIP Revision to reflect that it has been satisfied by the Valley Incentive Measure. We are also approving the State's demonstration that the Valley Incentive Measure has achieved emissions reductions of 5.0 tpd of NOX and 0.27 tpd of direct PM2.5 in the year 2023 and crediting those reductions toward the emissions reduction commitment in the California SIP.

Additionally, in response to a request from the State of California on May 23, 2024, the EPA is granting a one-year extension to the applicable attainment date for the 1997 annual PM2.5 NAAQS for the San Joaquin Valley nonattainment area. This final action to extend the applicable attainment date from December 31, 2023, to December 31, 2024, for this nonattainment area is based on the State's compliance with the requirements in the applicable SIP for the area and on the 2023 PM2.5 monitoring data from sites in the San Joaquin Valley nonattainment area.

V. Statutory and Executive Order Reviews

Under the CAA, the Administrator is required to approve a SIP submission that complies with the provisions of the Act and applicable federal regulations. 42 U.S.C. 7410(k); 40 CFR 52.02(a). Thus, in reviewing SIP submissions, the EPA's role is to approve state choices, provided that they meet the criteria of the Act. Accordingly, this final action merely approves a state plan as meeting federal requirements and grants a state request for an attainment date extension consistent with federal requirements and does not impose additional requirements beyond those imposed by state law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of Section 12(d) of the National Technology Transfer and Advancement Act of 1995 (15 U.S.C. 272 note) because application of those requirements would be inconsistent with the CAA.

In addition, the SIP is not approved to apply on any Indian reservation land or in any other area where the EPA or an Indian tribe has demonstrated that a tribe has jurisdiction. In those areas of Indian country, the rule will not impose substantial direct costs on tribal governments or preempt tribal law as specified by Executive Order 13175 (65 FR 67249, November 9, 2000).

Executive Order 12898 (Federal Actions To Address Environmental Justice in Minority Populations and Low-Income Populations, 59 FR 7629, February 16, 1994) directs federal agencies to identify and address “disproportionately high and adverse human health or environmental effects” of their actions on minority populations and low-income populations to the greatest extent practicable and permitted by law. Executive Order 14096 (Revitalizing Our Nation's Commitment to Environmental Justice for All, 88 FR 25251, April 26, 2023) builds on and supplements E.O. 12898 and defines EJ as, among other things, “the just treatment and meaningful involvement of all people, regardless of income, race, color, national origin, or Tribal affiliation, or disability in agency decision-making and other Federal activities that affect human health and the environment.”

The State did not evaluate EJ considerations as part of its SIP submittal; the CAA and applicable implementing regulations neither prohibit nor require such an evaluation. Consistent with the EPA's discretion under the CAA, the EPA performed an EJ analysis, as is described above in the section titled, “Environmental Justice Considerations.” The analysis was done for the purpose of providing additional context and information about this rulemaking to the public, not as a basis of the action. Due to the nature of the action being taken here, this action is expected to have a neutral impact on the air quality of the affected area. In addition, there is no information in the record upon which this decision is based inconsistent with the stated goal of E.O. 12898 of achieving EJ for communities with EJ concerns.

This action is subject to the Congressional Review Act, and EPA will submit a rule report to each House of the Congress and to the Comptroller General of the United States. This action is not a “major rule” as defined by 5 U.S.C. 804(2). Under section 307(b)(1) of the CAA, petitions for judicial review of this action must be filed in the United States Court of Appeals for the appropriate circuit by January 21, 2025. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Ammonia, Incorporation by reference, Intergovernmental relations, Nitrogen oxides, Particulate matter, Reporting and recordkeeping requirements, Sulfur oxides, Volatile organic compounds.

Dated: November 2, 2024.
Martha Guzman Aceves,
Regional Administrator, Region IX.

Part 52, chapter I, title 40 of the Code of Federal Regulations is amended as follows:

PART 52—APPROVAL AND PROMULGATION OF IMPLEMENTATION PLANS

1. The authority citation for Part 52 continues to read as follows:

Authority: 42 U.S.C. 7401 et seq.

Subpart F—California

2. Section 52.220 is amended by adding and reserving paragraphs (c)(620) through (622), and adding paragraph (c)(623) to read as follows:

§ 52.220 Identification of plan—in part.

* * * * *

(c) * * *

(620)-(622) [Reserved]

(623) The following plan revisions were submitted electronically on August 22, 2024, by the Governor's designee as an attachment to a letter of the same date.

(i) [Reserved]

(ii) Additional materials. (A) California Air Resources Board.

(1) Selected portions titled “Amendments to the 15 µg/m³ SIP Revision and Agricultural Equipment Incentive Measure for the 1997 PM2.5 Standard,” and “Appendix B: 2022 Annual Demonstration Report: San Joaquin Valley Agricultural Equipment Incentive Measure Covering Projects Completed Through 12/31/2022,” of the Staff Report, “Review of the San Joaquin Valley 2024 Plan for the 2012 12 µg/m³ Annual PM2.5 Standard and Amendments to the Agricultural Equipment Incentive Measure and the 1997 15 µg/m³ State Implementation Plan Revision,” adopted July 25, 2024.

(2) The portion of CARB Resolution 24-10, dated July 25, 2024, adopting amendments to the Valley Incentive Measure to include quantification of emissions reductions of 5.0 tpd of NOX and 0.27 tpd of PM2.5 in the year 2023 from existing agricultural equipment projects and substituting the reductions from the Valley Incentive Measure to meet the aggregate emissions reduction commitment in the attainment plan for the 1997 annual PM2.5 NAAQS approved in 40 CFR 52.220(c)(537)(ii)(A)(9).

(B) [Reserved]

* * * * *

[FR Doc. 2024-25946 Filed 11-18-24; 8:45 am]

BILLING CODE 6560-50-P